COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds products and services to the Procurement List that will be furnished by nonprofit agencies employing persons who are blind or have other severe disabilities, and deletes products and a service from the Procurement List previously furnished by such agencies.

DATES: Effective on September 4, 2016.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION:

Additions

On 2/12/2016 (81 FR 7510-7511), 5/13/2016 (81 FR 29848), 5/20/2016 (81 FR 31917-31918), 5/27/2016 (81 FR 33665-33666), and 6/10/2016 (81 FR 37581-37582), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 8501-8506) in connection with the products and services proposed for addition to the Procurement List.

End of Certification

Accordingly, the following products and services are added to the Procurement List:

Products

NSN(s)—Product Name(s):

7490-00-NIB-0046—Label Printer, High Speed, PC and Mac, Black/Silver

7490-00-NIB-0047—Label Maker, Industrial, Handheld, Orange

7490-00-NIB-0050—Kit, Desktop Label Maker

7510-00-NIB-1081—Tape, Label, Black on White, ½″ x 24′

7510-00-NIB-1082—Cartridge, Label, Black on White, ¾″ x 26.2′

7510-01-NIB-1054—Cartridge, Label, Black on Clear, ½″ x 23′

7510-01-NIB-1055—Cartridge, Label, Black on Yellow, ½″ x 23′

7510-01-NIB-1056—Cartridge, Label, White on Black, ½″ x 23′

7510-01-NIB-1057—Cartridge, Label, Heat Shrink Tube, Black on White,½″ x 5′

7530-00-NIB-1174—Labels, File Folder, Black on White, 9/16″ x 3 7/16″

7530-00-NIB-1175—Labels, Address, Black on White, 1⅛″ x 3½″

7530-00-NIB-1176—Labels, Shipping, Black on White, 2⅛″ x 4″

7530-00-NIB-1177—Labels, Name Badge, Clip Hole, Black on White 2¼″ x 4″

Mandatory for: Total Government Requirement

Mandatory Source(s) of Supply: Association for the Blind and Visually Impaired—Goodwill Industries of Greater Rochester, Rochester, NY

Contracting Activity: General Services Administration, New York, NY

Distribution: A-List

NSN(s)—Product Name(s): 8530-01-490-7372—Kit, Toiletries

Mandatory Purchase For: Total Government Requirement

Mandatory Source(s) of Supply: NewView Oklahoma, Inc., Oklahoma City, OK

Contracting Activity: General Services Administration, Fort Worth, TX

Distribution: B-List

NSN(s)—Product Name(s):

6650-00-NIB-0009—Complete Eyeglass CR-39 Single Vision, plastic, clr

6650-00-NIB-0010—Complete Eyeglass CR-39 Flat Top 28 Bifocal, clr

6650-00-NIB-0011—Complete Eyeglass CR-39 Flat Top 35 Bifocal, clr

6650-00-NIB-0012—Complete Eyeglass CR-39 Round 25 & 28, clr

6650-00-NIB-0013—Complete Eyeglass CR-39 Flat Top 7 x 28, clr

6650-00-NIB-0014—Complete Eyeglass CR-39 Flat Top 8 x 35, clr

6650-00-NIB-0015—Complete Eyeglass CR-39 Progressives, clr

6650-00-NIB-0016—Complete Eyeglass CR-39 SV Aspheric Lentic.

6650-00-NIB-0017—Complete Eyeglass CR-39 Flat Top-Round Asph Len

6650-00-NIB-0018—Complete Eyeglass CR-39 Exec. Bifocal, clr

6650-00-NIB-0019—Complete Eyeglass Glass Single Vision, clr

6650-00-NIB-0020—Complete Eyeglass Glass Flat Top 28 Bifocal, clr

6650-00-NIB-0021—Complete Eyeglass Glass Flat Top 35 Bifocal, clr

6650-00-NIB-0022—Complete Eyeglass Glass Flat Top 7 x 28, trifoc, clr

6650-00-NIB-0023—Complete Eyeglass Glass Flat Top 8 x 35, trifoc, clr

6650-00-NIB-0024—Complete Eyeglass Glass Progressives, clr

6650-00-NIB-0025—Complete Eyeglass Glass Executive Bifocal, clr

6650-00-NIB-0026—Complete Eyeglass Polycarb SV = Single Vision, clr

6650-00-NIB-0027—Complete Eyeglass Polycarb Flat Top 28, clr

6650-00-NIB-0028—Complete Eyeglass Polycarb Flat Top 35, clr

6650-00-NIB-0029—Complete Eyeglass Polycarb Flat Top 7 x 28, clr

6650-00-NIB-0030—Complete Eyeglass Polycarb Flat Top 8 x 35, clr

6650-00-NIB-0031—Complete Eyeglass Polycarb Progressives, clr

6650-00-NIB-0032—Lenses Only, 1 pair CR-39 Single Vision, plastic, clr

6650-00-NIB-0033—Lenses Only, 1 pair CR-39 Flat Top 28 Bifocal, clr

6650-00-NIB-0034—Lenses Only, 1 pair CR-39 Flat Top 35 Bifocal, clr

6650-00-NIB-0035—Lenses Only, 1 pair CR-39 Round 25 & 28, clr

6650-00-NIB-0036—Lenses Only, 1 pair CR-39 Flat Top 7 x 28, clr

6650-00-NIB-0037—Lenses Only, 1 pair CR-39 Flat Top 8 x 35, clr

6650-00-NIB-0038—Lenses Only, 1 pair CR-39 Progressives, clr

6650-00-NIB-0039—Lenses Only, 1 pair CR-39 SV Aspheric Lentic.

6650-00-NIB-0040—Lenses Only, 1 pair CR-39 Flat Top/Round Asph Len

6650-00-NIB-0041—Lenses Only, 1 pair CR-39 Exec. Bifocal, clr

6650-00-NIB-0042—Lenses Only, 1 pair Glass Single Vision, clr

6650-00-NIB-0043—Lenses Only, 1 pair Glass Flat Top 28 Bifocal, clr

6650-00-NIB-0044—Lenses Only, 1 pair Glass Flat Top 35 Bifocal, clr

6650-00-NIB-0045—Lenses Only, 1 pair Glass Flat Top 7 x 28, trifoc, clr

6650-00-NIB-0046—Lenses Only, 1 pair Glass Flat Top 8 x 35, trifoc, clr

6650-00-NIB-0047—Lenses Only, 1 pair Glass Progressives,clr

6650-00-NIB-0048—Lenses Only, 1 pair Glass Executive Bifocal, clr

6650-00-NIB-0049—Lenses Only, 1 pair Polycarb SV = Single Vision, clr

6650-00-NIB-0050—Lenses Only, 1 pair Polycarb Flat Top 28, clr

6650-00-NIB-0051—Lenses Only, 1 pair Polycarb Flat Top 35 clr

6650-00-NIB-0052—Lenses Only, 1 pair Polycarb Flat Top 7 x 28, clr

6650-00-NIB-0053—Lenses Only, 1 pair Polycarb Flat Top 8 x 35, clr

6650-00-NIB-0054—Lenses Only, 1 pair Polycarb Progressives, clr

6650-00-NIB-0055—Photochr/Transition, CR-39 SV or MF (MF= Multi-focal)

6650-00-NIB-0056—Photochr-transition Polycarb SV or MF

6650-00-NIB-0057—Photogrey Glass SV or MF

6650-00-NIB-0058—Hi Index Transitions CR-39 SV or MF

6650-00-NIB-0059—Anti-refl. Coating CR-39—PC SV or MF

6650-00-NIB-0060—UV coating CR39

6650-00-NIB-0061—Polariz. Lens CR-39 SV or MF

6650-00-NIB-0062—Slab-off CR-39 SV or MF

6650-00-NIB-0063—Hi Index High Index SV or MF

6650-00-NIB-0064—Prism CR-39 or PC

6650-00-NIB-0065—Diopter CR-39 + or−9.0

6650-00-NIB-0066—Roll/polish edge CR-39, PC SV or MF

6650-00-NIB-0067—Hyper3 drop SV, MF CR-39 SV or MF

6650-00-NIB-0068—Add Powers over 4.0 CR-39 MF Only

6650-00-NIB-0069—Frame Only Plastic or Metal

Mandatory Source(s) of Supply: Winston-Salem Industries for the Blind, Inc., Winston-Salem, NC

Mandatory Purchase For: Department of Veterans Affairs, Veterans Integrated Service Network (VISN) 6 Medical Centers; Community Based Outpatient Clinics (CBOCs); and Health Care Centers that provide optical services.

Contracting Activity: Department of Veterans Affairs, Veterans Integrated Service Network (VISN) 6

Distribution: C-List

The U.S. AbilityOne Commission, whose mission is to provide employment opportunities for people who are blind or have significant disabilities in the manufacture and delivery of products and services to the Federal Government, received two public comments both more than 90 days after the expiration of the notice and comment period required by 5 U.S.C. 500, formerly known as the Administrative Procedure Act (APA). Notwithstanding that, the Commission is addressing the comments.

The Commenters recommended against the addition of these prescription eyewear products from the Commission's Procurement List. The Commenters did not assert a personal financial hardship or impact, one on behalf of its client and the other, itself, should the addition of these products to the Procurement List occur. Rather, the Commenters highlighted there may be an alternate method for the procurement of these products through veteran-owned sources and that addition of the products to the Procurement List may cause the Department of Veterans Affairs to be non-compliant no matter how it proceeds with such a procurement.

While the Commission appreciates there may be methods for purchasing the subject prescription eyewear products from veteran-owned sources, the Commission's mission and duty is to provide employment opportunities for people who are blind or have significant disabilities, many of whom are veterans, through manufacture and delivery of products and services to the Federal Government. Adding the proposed products to the Commission's Procurement List will provide employment opportunities to a portion of the U.S. population that has a historically high rate of unemployment and underemployment, and is consistent with the Commission's authority ¹ established by 41 U.S.C. Chapter 85.

¹ OGC Legal Opinion 16-1, Legal Files, PLIMS record.

Services

Service Type: Engineering and Environmental Service

Mandatory for: U.S. Air Force, 61st Civil Engineer & Logistics Squadron,Los Angeles Air Force Base, El Segundo, CA

Mandatory Source(s) of Supply: PRIDE Industries, Roseville, CA

Contracting Activity: Dept. of the Air Force, FA2816 SMC PKO

Service Type: Janitorial Service

Mandatory for: DHS, Federal Law Enforcement Training Center, Glynco, GA

Mandatory Source(s) of Supply: Goodwill Industries of the Coastal Empire, Inc., Savannah, GA

Contracting Activity: Federal Law Enforcement Training Center, FLETC Glynco Procurement Office

Deletions

On 7/1/2016 (81 FR 43191), the Committee for Purchase From People Who Are Blind or Severely Disabled published notice of proposed deletions from the Procurement List.

After consideration of the relevant matter presented, the Committee has determined that the products and service listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and service to the Government.

3. There are no known regulatory alternatives which would accomplish the objectives of the Javits-Wagner-O'Day Act (41 U.S.C. 8501-8506) in connection with the products and service deleted from the Procurement List.

End of Certification

Accordingly, the following products and service are deleted from the Procurement List:

Products

NSN(s)—Product Name(s): 7520-00-NIB-1314—Rotary Cutter

Mandatory Source(s) of Supply: The Lighthouse for the Blind, Inc. (Seattle Lighthouse), Seattle, WA

Contracting Activity: General Services Administration, New York, NY

NSN(s)—Product Name(s): 6530-00-784-4205—Strap, Patient Securing, Olive Drab, 72”

Mandatory Source(s) of Supply: Alphapointe, Kansas City, MO

Contracting Activity: Defense Logistics Agency Troop Support

NSN(s)—Product Name(s):

MR 3229—Goody Hair Care Product—So Gelous Purse Brush

MR 3217—Goody Hair Care Product—Fashion Contour Barrettes

Mandatory Source(s) of Supply: Association for Vision Rehabilitation and Employment, Inc., Binghamton, NY

Contracting Activity: Defense Commissary Agency

Service

Service Type: Linen Rental Service

Mandatory for: New Orleans Naval Air Station, New Orleans, LA

Mandatory Source(s) of Supply: St. Tammany Association for Retarded Citizens, Inc., Slidell, LA

Contracting Activity: Dept. of the Navy, Naval Hospital, Pensacola, FL

Barry S. Lineback,
Director, Business Operations.

[FR Doc. 2016-18648 Filed 8-4-16; 8:45 am]

BILLING CODE 6353-01-P